DEPARTMENT OF TRANSPORTATION

Federal Aviation Administration

14 CFR Part 39

[Docket No. FAA-2005-20251; Directorate Identifier 2004-NM-164-AD; Amendment 39-14071; AD 2005-09-03]

RIN 2120-AA64

Airworthiness Directives; Raytheon Model Hawker 800XP Airplanes

AGENCY: Federal Aviation Administration (FAA), Department of Transportation (DOT).

ACTION: Final rule.

SUMMARY: The FAA is adopting a new airworthiness directive (AD) for certain Raytheon Model Hawker 800XP airplanes. This AD requires inspecting to detect damage of certain wiring in the flight compartment, performing corrective actions if necessary, modifying certain wiring connections, and revising the airplane flight manual. This AD is prompted by reports of miswiring in the power distribution system. We are issuing this AD to ensure that the flightcrew is aware of the source of battery power for certain equipment, and to prevent damage to wiring and surrounding equipment that could result in smoke or fire on the airplane.

DATES: This AD becomes effective June 1, 2005.

The incorporation by reference of certain publications listed in the AD is approved by the Director of the Federal Register as of June 1, 2005.

ADDRESSES: For service information identified in this AD, contact Raytheon Aircraft Company, Department 62, P.O. Box 85, Wichita, Kansas 67201-0085.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-20251; the directorate identifier for this docket is 2004-NM-164-AD.

FOR FURTHER INFORMATION CONTACT: Philip Petty, Aerospace Engineer, Electrical Systems and Avionics, ACE-119W, FAA, Wichita Aircraft Certification Office, 1801 Airport Road, room 100, Mid-Continent Airport, Wichita, Kansas 67209; telephone (316) 946-4139; fax (316) 946-4107.

SUPPLEMENTARY INFORMATION: The FAA proposed to amend 14 CFR Part 39 with an AD for certain Raytheon Model Hawker 800XP airplanes. That action, published in the Federal Register on February 2, 2005 (70 FR 5387), proposed to require inspecting to detect damage of certain wiring in the flight compartment, performing corrective actions if necessary, modifying certain wiring connections, and revising the airplane flight manual.

Comments

We provided the public the opportunity to participate in the development of this AD. No comments have been submitted on the proposed AD or on the determination of the cost to the public.

Conclusion

We have carefully reviewed the available data and determined that air safety and the public interest require adopting the AD as proposed.

Costs of Compliance

There are about 45 airplanes of the affected design in the worldwide fleet. The following table provides the estimated costs for U.S. operators to comply with this AD.

Estimated Costs
Action | Work hours | Average labor rate per hour | Parts | Cost per airplane | Number of U.S. -registered airplanes | Fleet cost
Inspection | 18 | $65 | None | $1,170 | 30 | $35,100
Modification | 6 | 65 | 435 | 825 | 30 | 24,750

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-09-03 Raytheon Aircraft Company: Amendment 39-14071. Docket No. FAA-2005-20251; Directorate Identifier 2004-NM-164-AD.

Effective Date

(a) This AD becomes effective June 1, 2005.

Affected ADs

(b) None.

Applicability

(c) This AD applies to Raytheon Model Hawker 800XP airplanes, certificated in any category, serial numbers 258541, 258556, and 258567 through 258608 inclusive.

Unsafe Condition

(d) This AD was prompted by reports of miswiring in the power distribution system. We are issuing this AD to ensure that the flightcrew is aware of the source of battery power for certain equipment, and to prevent damage to wiring and surrounding equipment that could result in smoke or fire on the airplane.

Compliance

(e) You are responsible for having the actions required by this AD performed within the compliance times specified, unless the actions have already been done.

Service Information Reference

(f) The term “service bulletin,” as used in this AD, means Raytheon Service Bulletin SB 24-3555, Revision 1, dated June 2004.

(1) Where the service bulletin specifies contacting the manufacturer for information, this proposed AD requires, before further flight, contacting the Manager, Wichita Aircraft Certification Office (ACO), FAA. Then, before further flight, any applicable action specified by the Manager, Wichita ACO, must be accomplished in accordance with a method approved by the Manager, Wichita ACO.

(2) The service bulletin also refers to Raytheon Hawker 800XP Temporary Change P/N 140-590032-0005TC7, dated June 3, 2003, which is intended to be inserted into the Emergency Procedures section of the airplane flight manual to inform the flightcrew which standby batteries provide power to what equipment once the actions in the service bulletin have been done.

(3) Where the service bulletin specifies to report compliance information to the manufacturer, this AD does not include that requirement.

Inspection

(g) Within 50 flight hours or 30 days after the effective date of this AD, whichever is first: Perform a detailed inspection for damage (primarily but not limited to evidence of heat damage) of wiring in the flight compartment, and all applicable corrective actions, by doing all actions in Part 1 of the Accomplishment Instructions of the service bulletin, except as provided by paragraphs (f)(1) and (f)(3) of this AD. Any applicable corrective action must be done before further flight.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Modification

(h) At the applicable time specified in paragraph (h)(1) or (h)(2) of this AD, modify wiring in the flight compartment by doing all actions in accordance with Part 2 of the Accomplishment Instructions of the service bulletin. Following accomplishment of the actions in Part 2 of the service bulletin, before further flight, do all actions associated with the functional test, including revising the Emergency Procedures section of the Raytheon Hawker 800XP Airplane Flight Manual to include the information in Temporary Change P/N 140-590032-0005TC7, in accordance with the Accomplishment Instructions of the service bulletin.

(1) If no damage was found during the inspection required by paragraph (g) of this AD: Do paragraph (h) within 300 flight hours or 180 days after the effective date of this AD, whichever is first.

(2) If any damage is found during the inspection required by paragraph (g) of this AD: Do paragraph (h) before further flight after the damage is found.

Alternative Methods of Compliance (AMOCs)

(i) The Manager, Wichita ACO, has the authority to approve AMOCs for this AD, if requested in accordance with the procedures found in 14 CFR 39.19.

Material Incorporated by Reference

(j) You must use Raytheon Service Bulletin SB 24-3555, Revision 1, dated June 2004, to perform the actions that are required by this AD, unless the AD specifies otherwise. The Director of the Federal Register approves the incorporation by reference of this document in accordance with 5 U.S.C. 552(a) and 1 CFR part 51. For copies of the service information, contact Raytheon Aircraft Company, Department 62, P.O. Box 85, Wichita, Kansas 67201-0085. To view the AD docket, contact the Docket Management Facility, U.S. Department of Transportation, 400 Seventh Street SW., room PL-401, Nassif Building, Washington, DC. To review copies of the service information, contact the National Archives and Records Administration (NARA). For information on the availability of this material at the NARA, call (202) 741-6030, or go to http://www.archives.gov/ federal_register/code_of_ federal_regulations/ibr_locations.html.

Issued in Renton, Washington, on April 18, 2005.
Ali Bahrami,
Manager, Transport Airplane Directorate, Aircraft Certification Service.

[FR Doc. 05-8272 Filed 4-26-05; 8:45 am]

BILLING CODE 4910-13-P